ENVIRONMENTAL PROTECTION AGENCY

[FRL-7141-5]

Notice of Open Meeting; Environmental Financial Advisory Board; March 4-6, 2002

The Environmental Protection Agency's (EPA) Environmental Financial Advisory Board (EFAB) will hold two open meetings on March 4-6, 2002. Both meetings will be held at the National Press Club, 14th and F Streets, NW., Washington, DC, 13th Floor.

On Monday, March 4, 2002 EFAB's Cost Effective Environmental Management Workgroup (CEM) will hold a Workshop on the Governmental Accounting Standards Board Statement No. 34 (GASB 34). The meeting will be held in the Zenger Room and will begin at 9 a.m. and end at approximately 3 p.m.

The purposes of the workshop are to: (1) Gain a better understanding of GASB 34 among EFAB members and EPA staff; (2) assess how various stakeholders might be affected by implementation of the standard and examine its implications; and (3) identify possible recommendations for EFAB to make to EPA with respect to its role and any action it may take. The meeting will consist of a group of informed panelists from the Government Accounting Standards Board, public utilities, EPA, as well as the financial services industry, who will share their perspectives on GASB 34. Information from this meeting will help the Board develop a report with advice and recommendations to EPA.

On March 5-6, 2002 a meeting of the full Board will be held in the Holeman Lounge. The Tuesday, March 5 session will run from 8:30 a.m. to 5 p.m. and the Wednesday, March 6 session will begin at 8 a.m. and end at 11 a.m.

The purposes of this meeting are to: (1) Hear from informed speakers on environmental finance issues, proposed legislation and Agency priorities; and (2) discuss progress with work products under EFAB's current strategic action agenda. Environmental financing topics expected to be discussed include: Stewardship financing, cost-effective environmental management, international initiatives, superfund and brownfields initiatives, and public finance issues.

Both meetings are open to the public, but seating is limited. For further information, please contact Vanessa Bowie, EFAB Coordinator, U.S. EPA on (202) 564-5186.

Dated: February 4, 2002.
Joseph Dillon,
Comptroller.

[FR Doc. 02-3358 Filed 2-11-02; 8:45 am]

BILLING CODE 6560-50-P